DEPARTMENT OF AGRICULTURE

Animal and Plant Health Inspection Service

[Docket No. APHIS-2006-0152]

Supplemental Environmental Impact Statement for Importation of Solid Wood Packing Material

AGENCY: Animal and Plant Health Inspection Service, USDA.

ACTION: Notice; reopening of comment period for supplemental environmental impact statement.

SUMMARY: We are reopening the comment period for the supplemental environmental impact statement prepared for the Importation of Solid Wood Packing Material Final Environmental Impact Statement. This action will allow interested persons additional time to prepare and submit comments.

DATES: We will consider all comments that we receive on or before June 25, 2007.

ADDRESSES: You may submit comments by either of the following methods:

• Federal eRulemaking Portal: Go to http://www.regulations.gov, select “Animal and Plant Health Inspection Service” from the agency drop-down menu, then click “Submit.” In the Docket ID column, select APHIS-2006-0152 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0152, Regulatory Analysis and Development, PPD, APHIS, Station 3A-03.8, 4700 River Road Unit 118, Riverdale, MD 20737-1238. Please state that your comment refers to Docket No. APHIS-2006-0152.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. David A. Bergsten, APHIS Interagency NEPA Contact, Environmental Services, PPD, APHIS, 4700 River Road, Unit 149, Riverdale, MD 20737-1238; (301) 734-6103.

SUPPLEMENTARY INFORMATION:

Background

On October 24, 2006, the Animal and Plant Health Inspection Service (APHIS) published in the Federal Register (71 FR 62240, Docket No. APHIS-2006-0152) a notice of its intention to prepare a supplemental environmental impact statement (SEIS) for the Importation of Solid Wood Packing Material Final Environmental Impact Statement, August 2003 (FEIS). The purpose of the SEIS is to reevaluate and refine the estimates of methyl bromide usage associated with the alternatives considered in the FEIS. On March 9, 2007, the Environmental Protection Agency published in the Federal Register (72 FR 10749) a notice of the availability of the SEIS.

Comments on the SEIS were required to be received on or before April 23, 2007. We are reopening the comment period on the SEIS for an additional 30 days. This action will allow interested persons additional time to prepare and submit comments. We will also consider all comments received between April 24, 2007 (the day after the close of the original comment period) and the date of this notice.

Authority: 7 U.S.C. 450 and 7701-7772 and 7781-7786; 21 U.S.C. 136 and 136a; 7 CFR 2.22, 2.80, and 371.3.

Done in Washington, DC, this 21st day of May 2007.
Kevin Shea,
Acting Administrator, Animal and Plant Health Inspection Service.

[FR Doc. E7-10107 Filed 5-24-07; 8:45 am]

BILLING CODE 3410-34-P